DEPARTMENT OF THE INTERIOR

National Park Service

[NPS-WASO-NAGPRA-NPS0032041; PPWOCRADN0-PCU00RP14.R50000]

Notice of Inventory Completion: Arizona Museum of Natural History, Mesa, AZ

AGENCY: National Park Service, Interior.

ACTION: Notice.

SUMMARY: The Arizona Museum of Natural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Arizona Museum of Natural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Arizona Museum of Natural History at the address in this notice by July 8, 2021.

FOR FURTHER INFORMATION CONTACT: Melanie Deer, Arizona Museum of Natural History, 53 N Macdonald, Mesa, AZ 85201, telephone (480) 644-4381, email melanie.deer@mesaaz.gov.

SUPPLEMENTARY INFORMATION: Notice is here given in accordance with the Native American Graves Protection and Repatriation Act (NAGPRA), 25 U.S.C. 3003, of the completion of an inventory of human remains under the control of the Arizona Museum of Natural History, Mesa, AZ. The human remains were most likely removed from Maricopa County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Arizona Museum of Natural History professional staff in consultation with representatives of the Gila River Indian Community of the Gila River Indian Reservation, Arizona, and the Salt River Pima-Maricopa Indian Community of the Salt River Reservation, Arizona.

History and Description of the Remains

In 2021, human remains representing, at minimum, one individual were removed from an unknown location most likely in Maricopa County, AZ. The human remains belong to an individual of undetermined age and sex. No known individual was identified. No associated funerary objects are present.

The human remains were discovered when the box in which they were housed was moved from the Historic Post Office. As information on the box references Scottsdale, AZ, the Arizona Museum of Natural History has determined that the human remains most likely were removed from Maricopa County. According to archeological understanding, the region where these human remains were most likely collected was occupied by the Hohokam Material Culture in prehistoric times. As the primary collection of the Arizona Museum of Natural History focuses on Hohokam Material Culture, the Arizona Museum of Natural History has determined that the human remains most likely are Hohokam.

According to archeological and ethnographic understandings, the Hohokam Material Culture people were ancestors to the Four Southern Tribes of Arizona (Ak-Chin Indian Community [previously listed as Ak Chin Indian Community of the Maricopa (Ak Chin) Indian Reservation, Arizona]; Gila River Indian Community of the Gila River Indian Reservation, Arizona; Salt River-Pima Maricopa Indian Community of the Salt River Reservation, Arizona; and Tohono O'odham Nation of Arizona) and the Hopi Tribe of Arizona. The Four Southern Tribes of Arizona divide their ancestral lands such that each Tribe oversees those portions closest to their reservation.

Determinations Made by the Arizona Museum of Natural History

Officials of the Arizona Museum of Natural History have determined that:

• Pursuant to 25 U.S.C. 3001(9), the human remains described in this notice represent the physical remains of one individual of Native American ancestry.

• Pursuant to 25 U.S.C. 3001(2), there is a relationship of shared group identity that can be reasonably traced between the Native American human remains and the Ak-Chin Indian Community [previously listed as Ak Chin Indian Community of the Maricopa (Ak Chin) Indian Reservation, Arizona]; Gila River Indian Community of the Gila River Indian Reservation, Arizona; Hopi Tribe of Arizona; Salt River-Pima Maricopa Indian Community of the Salt River Reservation, Arizona; and the Tohono O'odham Nation of Arizona (hereafter referred to as “The Tribes”).

Additional Requestors and Disposition

Lineal descendants or representatives of any Indian Tribe or Native Hawaiian organization not identified in this notice that wish to request transfer of control of these human remains should submit a written request with information in support of the request to Melanie Deer, Arizona Museum of Natural History, 53 N Macdonald, Mesa, AZ 85201, telephone (480) 644-4381, email melanie.deer@mesaaz.gov, by July 8, 2021. After that date, if no additional requestors have come forward, transfer of control of the human remains to The Tribes may proceed.

The Arizona Museum of Natural History is responsible for notifying The Tribes that this notice has been published.

Dated: May 25, 2021.
Melanie O'Brien,
Manager, National NAGPRA Program.

[FR Doc. 2021-11947 Filed 6-7-21; 8:45 am]

BILLING CODE 4312-52-P